DEPARTMENT OF AGRICULTURE

Natural Resources Conservation Service

Elm Fork Watershed of the Trinity River Watershed, Cooke County, Texas, Multiple-Purpose Structure No. 19

AGENCY: Natural Resources Conservation Service, USDA.

ACTION: Notice of a Finding of No Significant Impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Elm Fork Watershed, Multiple-Purpose Structure (MPS) No. 19, Cooke County, Texas.

For Further Information Contact: Salvador Salinas, Assistant State Conservationist (SP&P), Natural Resources Conservation Service, 101 South Main, Temple, Texas 76501-7682, Telephone (254) 742-9800.

Supplementary Information: The environmental assessment of this federally assisted action indicates that the project will not cause significant local, regional, or national impacts on the environment. As a result of these findings, John P. Burt, State Conservationist, has determined that the preparation and review of an environmental impact statement is not needed for this project.

The project will provide municipal water and recreational activities for the city of Muenster, Texas and reduce flooding and improve surface water quality in and below MPS No. 19. The environmental assessment addresses the installation of the Multiple-Purpose Structure (MPS No. 19) that remains to be installed.

Installation of the site, including dam, emergency spillway, and municipal water pool, will require 359 acres. The dam and emergency spillway will be planted to grasses that have wildlife values. A mitigation plan has been developed to offset the loss of any wildlife habitat. The fee title area needed for the structure will be fenced to control livestock, therefore greatly benefiting ground nesting birds. The structure will affect 185 acres of prime farmland. Downstream flooding of wildlife habitat will be reduced. No endangered plants or animals or their habitat will be affected. No cultural or historical properties will be affected.

Multiple-Purpose Structure No. 19 will create 309 acres of aquatic habitat creating a fisheries resource where none exists.

Federal assistance will be provided under authority of Public Law 78-534, the Flood Control Act of 1944. Total project costs for Multiple-Purpose Structure No. 19 is estimated to be $6,923,687, of which $3,810,525 will be paid from Public Law 534 funds and $3,113,162 from local funds.

The notice of a Finding of No Significant Impact (FONSI) has been forwarded to the Environmental Protection Agency and to various Federal, State, and local agencies and interested parties. A limited number of copies of the FONSI are available to fill single copy requests at the above address. Basic data developed during the environmental assessment are on file and may be reviewed by contacting John P. Burt.

No administrative action on implementation of the proposal will be taken until 30 days after the date of this publication in the Federal Register.

Dated: June 8, 2001.
Salvador Salinas,
Assistant State Conservationist (SP&P).

[FR Doc. 01-15579 Filed 6-20-01; 8:45 am]

BILLING CODE 3410-16-P